OFFICE OF MANAGEMENT AND BUDGET

Office of Federal Procurement Policy

DEPARTMENT OF DEFENSE

GENERAL SERVICES ADMINISTRATION

NATIONAL AERONAUTICS AND SPACE ADMINISTRATION

48 CFR Parts 1, 7, 12, 16, 19, and 52

[FAR Case 2023-011, Docket No. FAR-2023-0011, Sequence No. 1]

RIN 9000-AO59

Federal Acquisition Regulation: Small Business Participation on Certain Multiple-Award Contracts

AGENCY: Office of Federal Procurement Policy (OFPP), Office of Management and Budget (OMB); Department of Defense (DoD); General Services Administration (GSA); and National Aeronautics and Space Administration (NASA).

ACTION: Proposed rule; withdrawal.

SUMMARY: OFPP, DoD, GSA, and NASA (collectively referred to as the Federal Acquisition Regulatory Council, or FAR Council) are withdrawing the proposed rule to amend the Federal Acquisition Regulation (FAR) titled: Small Business Participation on Certain Multiple-Award Contracts.

DATES: The proposed rule published on January 15, 2025, at 90 FR 3753, is withdrawn as of June 12, 2025.

ADDRESSES: You can view and download related documents and public comments from the Federal eRulemaking portal at https://www.regulations.gov by searching for “FAR case 2023-011”.

FOR FURTHER INFORMATION CONTACT: FAR Policy at 202-969-4075 or by email at farpolicy@gsa.gov. Please cite “FAR case 2023-011”.

SUPPLEMENTARY INFORMATION: Executive Order 14091, Further Advancing Racial Equity and Support for Underserved Communities Through the Federal Government, directed agencies to take steps to increase contracting opportunities for small disadvantaged business concerns. To further this goal, on January 25, 2024, the Administrator of the OFPP issued a Government-wide procurement policy to revise market research and acquisition planning procedures, small business specialist coordination, and the use of small business set-asides for orders under certain multiple-award contracts. The Small Business Administration (SBA) issued a proposed rule on October 25, 2024, at 89 FR 85072, to implement the policy of the OFPP memo into SBA's regulations. The FAR Council issued corresponding proposed rules on January 15, 2025, at: 90 FR 3753, to implement the policies of the OFPP memo in regulation, and 90 FR 3761, to clarify protest rights for orders under certain multiple award contracts.

E.O. 14148, Initial Rescission of Harmful Executive Orders and Actions, repealed E.O. 14091 on January 20, 2025. As a result, the FAR Council is withdrawing the proposed rules. The FAR Council will focus on reducing the regulatory burden for all small businesses with the goal of increasing small business participation in Federal procurement. Accordingly, for this reason, the proposed policy and rule published on January 15, 2024, at 90 FR 3753, is withdrawn and FAR Case 2023-011 is closed. The proposed rule published at 90 FR 3761 is being withdrawn under a separate notification published elsewhere in this issue of the Federal Register.

List of Subjects in 48 CFR Parts 1, 7, 12, 16, 19, and 52

Government procurement.

William F. Clark,
Director, Office of Government-wide Acquisition Policy, Office of Acquisition Policy, Office of Government-wide Policy.

[FR Doc. 2025-10610 Filed 6-11-25; 8:45 am]

BILLING CODE 6820-EP-P